ENVIRONMENTAL PROTECTION AGENCY

40 CFR Parts 136, 141 and 143

[FRL-6974-7]

RIN-2040-AD59

Withdrawal of Direct Final Rule; Guidelines Establishing Test Procedures for the Analysis of Pollutants Under the Clean Water Act; National Primary Drinking Water Regulations and National Secondary Drinking Water Regulations; Methods Update

AGENCY: Environmental Protection Agency (EPA).

ACTION: Withdrawal of direct final rule.

SUMMARY: Because EPA received adverse comments, we are withdrawing the direct final rule entitled “Guidelines Establishing Test Procedures for the Analysis of Pollutants Under the Clean Water Act; National Primary Drinking Water Regulations and National Secondary Drinking Water Regulations; Methods Update; Direct Final Rule.” We published the direct final rule (66 FR 3466) with a companion proposed rule (66 FR 3526) on January 16, 2001. We stated in the direct final rule that if we received adverse comment by March 19, 2001, we would publish a timely notice of withdrawal in the Federal Register. We subsequently received adverse comments on the direct final rule. We will address those comments in a subsequent action based on the parallel proposal. The proposed rule stated that we would not institute a second comment period on this action.

DATES: As of May 15, 2001, EPA withdraws the direct final rule published at 66 FR 3466 on January 16, 2001.

FOR FURTHER INFORMATION CONTACT: Maria Gomez-Taylor, Ph.D., Engineering and Analysis Division (4303), USEPA Office of Science and Technology, Ariel Rios Bldg., 1200 Pennsylvania Ave., NW., Washington, DC 20460 (phone: 202-260-1639; e-mail: Gomez-Taylor.Maria@epa.gov).

SUPPLEMENTARY INFORMATION: EPA published a direct final rule on January 16, 2001, to approve the use of updated versions of test procedures (i.e., analytical methods) for the determination of chemical, radiological, and microbiological pollutants and contaminants in wastewater and drinking water. These updated versions of analytical methods have been published by one or more of the following organizations: American Society for Testing Materials, United States Geological Survey, United States Department of Energy, American Public Health Association, American Water Works Association, and Water Environment Federation. Previously approved versions of the methods would remain approved. The rule also corrected method citations and minor typographical errors in EPA's regulations for test procedures. EPA published a companion proposed rule (66 FR 3526) on the same date as the direct final rule.

The companion proposed rule invited comment on the substance of the direct final rule and stated that if adverse comments were received by March 19, 2001, the direct final rule would not become effective and a document would be published in the Federal Register to withdraw the direct final rule before the May 16, 2001, effective date. The EPA subsequently received adverse comments on the final rule. EPA plans to address those comments in a subsequent action. Today's action withdraws the direct final rule; the updated versions of the test procedures are not approved under 40 CFR parts 136, 141, or 143.

List of Subjects

40 CFR Part 136

Environmental protection, Analytical methods, Incorporation by reference, Reporting and recordkeeping requirements, Water pollution control.

40 CFR Part 141

Environmental protection, Chemicals, Incorporation by reference, Indian-lands, Intergovernmental relations, Radiation Protection, Reporting and recordkeeping requirements, Water supply.

40 CFR Part 143

Environmental protection, Chemicals, Incorporation by reference, Indian-lands, Water supply.

Dated: May 7, 2001.
Christine Todd Whitman,
Administrator.

[FR Doc. 01-12045 Filed 5-14-01; 8:45 am]

BILLING CODE 6560-50-P